DEPARTMENT OF ENERGY

Federal Energy Regulatory Commission

[Project No. 14957-000]

Oceanus Power & Water, LLC; Notice of Preliminary Permit Application Accepted for Filing and Soliciting Comments, Motions To Intervene, and Competing Applications

On December 27, 2018, Oceanus Power & Water, LLC, filed an application for a preliminary permit, pursuant to section 4(f) of the Federal Power Act (FPA), proposing to study the feasibility of the Integrated Pumped Hydroelectric Reverse Osmosis Clean Energy System at the Marine Corps Base Camp Pendleton (IPHROCES at Camp Pendleton Project or project) to be located on coast of the Pacific Ocean, near Marine Corp Base Camp Pendleton, San Clemente, San Diego County, California. The sole purpose of a preliminary permit, if issued, is to grant the permit holder priority to file a license application during the permit term. A preliminary permit does not authorize the permit holder to perform any land-disturbing activities or otherwise enter upon lands or waters owned by others without the owners' express permission.

The proposed project would consist of the following: (1) A rock-fill dam (dimensions and position to be determined based energy and water storage volume requirements under the permit term, if issued); (2) a upper reservoir having a total storage capacity of 9,990 acre-feet at a normal maximum operating elevation of 1,230 feet mean sea level (msl); (3) four 9,000-foot-long, 11-foot-diameter penstocks running above ground between the upper reservoir and the powerhouse; (4) an underground powerhouse with approximate footprint of 0.8-acre and containing four variable speed reversible Francis reversible pump/turbine-motor/generator units rated for 75 megawatts each at 1,230 feet of gross head; (5) a 50-foot-high seawater reverse osmosis desalinization facility with an approximate footprint of 30-acres located approximately 325-feet from the powerhouse; (6) four 11-foot-diameter tailrace pipelines, each with six 65-foot-long, 11-foot-diameter Johnson screens, extending from the powerhouse to the intake/outlet structure; (7) a seawater intake/outlet structure located in the Pacific Ocean; (8) a brine concentrate storage lagoon to store brine concentrate during times when the project is inoperable or in pumping mode; (9) a 2.5-mile-long, transmission line extending from the project to the existing San Onofre substation (the point of interconnection), the number of circuits, voltage, and configuration to be determined during the term of the permit, if issued; and (10) appurtenant facilities. The lower reservoir for the proposed project would be the Pacific Ocean. The estimated annual generation of the IPHROCES at Camp Pendleton Project would be 830 gigawatt-hours.

Applicant Contact: Mr. Neal Aronson, Director, President/CEO, Oceanus Power & Water, LLC, 900 High Street, Palo Alto, California 94301; phone: (650) 380-3323.

FERC Contact: Kelly Wolcott; phone: (202) 502-6480.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14957-000.

More information about this project, including a copy of the application, can be viewed or printed on the “eLibrary” link of Commission's website at http://www.ferc.gov/docs-filing/elibrary.asp. Enter the docket number (P-14957) in the docket number field to access the document. For assistance, contact FERC Online Support.

Dated: March 29, 2019.
Kimberly D. Bose,
Secretary.

[FR Doc. 2019-06719 Filed 4-4-19; 8:45 am]

BILLING CODE 6717-01-P